SMALL BUSINESS ADMINISTRATION

[Application No. 99000720]

Harbert Mezzanine Partners III SBIC, L.P.; Notice Seeking Exemption Under Section 312 of the Small Business Investment Act, Conflicts of Interest

Notice is hereby given that Harbert Mezzanine Partners III SBIC, L.P., 2100 Third Avenue North, Suite 600, Birmingham, AL 35203, a Federal Licensee applicant under the Small Business Investment Act of 1958, as amended (the “Act”), in connection with the financing of a small concern, has sought an exemption under Section 312 of the Act and Section 107.730, Financings which Constitute Conflicts of Interest of the Small Business Administration (“SBA”) Rules and Regulations (13 CFR 107.730). Harbert Mezzanine Partners III SBIC, L.P. proposes to invest in Employment Control Holding Company, LLC, a portfolio company of its Associate Harbert Mezzanine Partners II SBIC, L.P.

The financing is brought within the purview of § 107.730(a) of the Regulations because Harbert Mezzanine Partners III SBIC I, L.P. proposes to Finance a small business in which its Associate Harbert Mezzanine Partners II SBIC, L.P. has an equity interest of at least 10 percent, so the transaction that will effect the proposed Financing requires prior SBA exemption.

Notice is hereby given that any interested person may submit written comments on the transaction, within fifteen days of the date of this publication, to the Associate Administrator for Investment, U.S. Small Business Administration, 409 Third Street SW., Washington, DC 20416.

Dated: December 21, 2012.
Sean J. Greene,
Associate Administrator for Investment.

[FR Doc. 2013-00961 Filed 1-17-13; 8:45 am]

BILLING CODE 8025-01-P